DEPARTMENT OF THE INTERIOR

Bureau of Land Management

DEPARTMENT OF AGRICULTURE

U.S. Forest Service

[WO-300-9131-PP]

Notice of Correction to Notice of Availability of the Draft Programmatic Environmental Impact Statement for Leasing of Geothermal Resources in 11 Western States and Alaska and Notice of Public Hearings

AGENCIES: Bureau of Land Management, Interior; and U.S. Forest Service, Agriculture.

ACTION: Notice of Correction.

SUMMARY: On June 13, 2008 the BLM published a Notice of Availability in the Federal Register (73 FR 33802), which inadvertently printed an incorrect list of public meeting dates.

DATES: To ensure comments will be considered, the BLM must receive written comments on the Draft PEIS within 90 days following the date the Environmental Protection Agency publishes the Notice of Availability in the Federal Register. Public hearings will be held in 13 cities during July 2008. See the SUPPLEMENTARY INFORMATION section for meeting dates and locations.

ADDRESSES: You may submit comments by any of the following methods:

E-mail: geothermal_EIS@blm.gov.

Fax: 1-866-625-0707.

US Mail: Geothermal Programmatic EIS, c/o EMPSi, 182 Howard Street, Suite 110, San Francisco, California 94105.

FOR FURTHER INFORMATION CONTACT: For further information, including information on how to comment, contact Jack G. Peterson, Bureau of Land Management at (208) 373-4048, Jack_G_Peterson@blm.gov or Tracy Parker, Forest Service at (703) 605-4796, tparker03@fs.fed.us, or visit the PEIS Web site at http://www.blm.gov/Geothermal—EIS.

SUPPLEMENTARY INFORMATION: A copy of the Draft PEIS is available for review via the Internet from a link at http://www.blm.gov/Geothermal—EIS. Hardcopies are available for review at the BLM State and Field Offices. Electronic (on CD-ROM) and paper copies may also be obtained by contacting Jack Peterson at the aforementioned address and phone number.

The public is encouraged to provide comments on the Draft PEIS. In addition to the written comment period, the BLM and the FS will host 13 public meetings to collect additional comments. The public meeting dates and addresses are as follows:

1. Tuesday, July 8, 2008, 5:30 to 7:30 p.m., Anchorage, Alaska; Alaska Energy Authority, 813 W. Northern Lights Blvd.

2. Wednesday, July 9, 2008, 5:30 to 7:30 p.m., Fairbanks, Alaska; Fairbanks North Star Public Library Auditorium, 1215 Cowles Street.

3. Monday, July 14, 2008, 5:30 to 7:30 p.m., Reno, Nevada; Washoe County Library, Shoshone Room, Spanish Springs Branch, 7100A Pyramid Highway.

4. Tuesday, July 15, 2008, 5:30 to 7:30 p.m., Salt Lake City, Utah; Main Library, Level 4 Conference Room, 210 East 400 South.

5. Wednesday, July 16, 2008, 5:30 to 7:30 p.m., Tucson, Arizona; Pima County Public Library, Dusenberry River Branch, 5605 East River Road.

6. Thursday, July 17, 2008, 5:30 to 7:30 p.m., Cheyenne, Wyoming; Laramie County Library, Willow Room, 200 Pioneer Avenue.

7. Monday, July 21, 2008, 5:30 to 7:30 p.m., Boise, Idaho; Boise Public Library, William F. Hayes Memorial Auditorium, 715 South Capital Blvd.

8. Tuesday, July 22, 2008, 5:30 to 7:30 p.m., Albuquerque, New Mexico; University of New Mexico Conference Center (Room C), 1634 University NE.

9. Wednesday, July 23, 2008, 5:30 to 7:30 p.m., Helena, Montana; Lewis and Clark Library, 120 South Last Chance Gulch.

10. Thursday, July 24, 2008, 5:30 to 7:30 p.m., Denver, Colorado; PPA Event Center, Evergreen A Room, 2105 Decatur Street.

11. Monday, July 28, 2008, 5:30 to 7:30 p.m., Seattle, Washington; Seattle Public Library, University Branch, 5009 Roosevelt Way NE.

12. Tuesday, July 29, 2008, 5:30 to 7:30 p.m., Portland, Oregon; Multnomah County Central Library, U.S. Bank Room, 801 SW 10th Avenue.

13. Wednesday, July 30, 2008, 5:30 to 7:30 p.m., Sacramento, California; California Energy Commission, Hearing Room A, 1516 Ninth Street.

Any changes to these dates or locations, and any other public involvement activities, will be announced at least 10 days in advance through local media and on the project Web site: http://www.blm.gov/Geothermal—EIS.

Ray Brady,
Acting Assistant Director, Minerals and Realty Management.
Gloria Manning,
Associate Deputy Chief for National Forest System, U.S. Forest Service.

[FR Doc. E8-13890 Filed 6-18-08; 8:45 am]

BILLING CODE 4310-84-P